DEPARTMENT OF ENERGY

Federal Energy Regulatory Commission

[Docket No. AD06-9-000]

RTO Border Utility Issues; Supplemental Notice of Technical Conference on Seams Issues for RTOs and ISOs in the Eastern Interconnection

March 12, 2007.

On January 25, 2007, the Federal Energy Regulatory Commission issued a notice that on March 29, 2007, the Commission will convene a technical conference on RTO and ISO seams issues in the Eastern Interconnection. The technical conference will be held at the Federal Energy Regulatory Commission, 888 First Street, NE., Washington, DC 20426, in the Commission Meeting Room. It will begin at 9 a.m. and end at 4:45 p.m. Eastern time. Commissioners will attend and participate in the conference. Members of the public may attend and registration is not required.

Transcripts of the conference will be available from Ace Reporting Company (202-347-3700 or 1-800-336-6646) for a fee. They will be available for the public on the Commission's eLibrary system seven calendar days after FERC receives the transcript.

A free Webcast of this event will be available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via Phone Bridge for a fee. If you have any questions, visit http://www.CapitolConnection.org or contact Danielle Perkowski or David Reininger at 703-993-3100.

Commission conferences are accessible under section 508 of the Rehabilitation Act of 1973. For accessibility accommodations please send an e-mail to accessibility@ferc.gov, or call toll free 1-866-208-3372 (voice) or 202-208-1659 (TTY), or send a FAX to 202-208-2106 with the required accommodations.

For more information about this conference, please contact: Udi Helman, Office of Energy Markets and Reliability, Federal Energy Regulatory Commission, 888 First Street, NE., Washington, DC 20426, 202-502-8080, Udi.Helman@ferc.gov.

Philis J. Posey,
Acting Secretary.

[FR Doc. E7-4805 Filed 3-15-07; 8:45 am]

BILLING CODE 6717-01-P